DEPARTMENT OF COMMERCE

International Trade Administration

Export Trade Certificate of Review

ACTION: Notice of application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Jeffrey C. Anspacher, Director, Office of Export Trading Company Affairs, International Trade Administration, (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. A Certificate of Review protects the holder and the members identified in the Certificate from state and federal government antitrust actions and from private, treble damage antitrust actions for the export conduct specified in the Certificate and carried out in compliance with its terms and conditions. Section 302(b)(1) of the Act and 15 CFR 325.6(a) require the Secretary to publish a notice in the Federal Register identifying the applicant and summarizing its proposed export conduct

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice to: Office of Export Trading Company Affairs, International Trade Administration, Department of Commerce, Room 1104H, Washington, DC 20230, or transmit by e-mail at oetca@ita.doc.gov. Information submitted by any person is exempt from disclosure under the Freedom of Information Act (5 U.S.C. 552). However, nonconfidential versions of the comments will be made available to the applicant if necessary for determining whether or not to issue the Certificate. Comments should refer to this application as “Export Trade Certificate of Review, application number 02-00003.” A summary of the application follows.

Summary of the Application

Applicant: Corn Refiners Association, Inc. (“CRA”), 1701 Pennsylvania Avenue, NW., Suite 950, Washington, DC 20006.

Contact: M. Jean Anderson, Counsel, Telephone: (202) 682-7217.

Application No.: 02-00003.

Date Deemed Submitted: October 2, 2002.

Members (in addition to the applicant): A.E. Staley Manufacturing Company, Decatur, Illinois (subsidiary of Tate & Lyle plc, London, United Kingdom); Archer Daniels Midland Company, Decatur, Illinois; Cargill, Incorporated, Minneapolis, Minnesota; Corn Products International, Inc., Westchester, Illinois; National Starch and Chemical Company, Bridgewater, New Jersey (subsidiary of ICI plc, London, United Kingdom); Penford Corporation, Bellevue, Washington; and Roquette America, Inc., Keokuk, Iowa (subsidiary of Roquette Frères, Lestrem, France). CRA seeks a Certificate to cover the following specific Export Trade, Export Markets, and Export Trade Activities and Methods of Operations.

Export Trade

Product

High fructose corn syrup (“HFCS”), a sweetener derived from the corn wet milling process. HFCS takes the following forms: 42 percent fructose (item 1702.40 of the U.S. Harmonized Tariff Schedule (HTS)); 55 percent fructose and enriched HFCS (greater than 55 percent fructose) (item 1702.60 of the HTS); and crystalline fructose (item 1702.50 of the HTS).

Export Markets

HFCS will be exported only to Mexico.

Purpose

The CRA will manage the system for allocating rights to ship under tariff-rate quotas (TRQs) permitting duty-free entry of U.S. HFCS into Mexico.

Organization and Membership

The CRA, a not-for-profit Delaware corporation, is a trade association for the corn refining industry. Its membership includes all U.S. producers of HFCS. Under the CRA bylaws, any U.S. entity engaged in the United States in the production and distribution of products produced from corn by the wet milling process (e.g., corn starch, corn syrup, corn sugar, corn alcohol) is eligible for membership in the CRA.

TRQ Administrator

The CRA shall contract with an independent third party who is not engaged in the production, distribution or sale of HFCS to administer the TRQ System. The third party Administrator will be subject to general oversight and supervision by the Board of Directors of the CRA.

TRQ System

The Administrator shall allocate TRQ rights based on each member's U.S. HFCS share of total U.S. HFCS production capacity. In accordance with those allocations, the Administrator shall issue certificates (“TRQ Certificates”) to members evidencing the right to ship specified quantities of U.S. HFCS duty-free to Mexico. TRQ Certificates shall be freely transferable.

Confidential Information

Any confidential information submitted by an applicant for membership, by a member, or by any other person in connection with the TRQ System shall be marked “confidential” and submitted to the Administrator, who shall maintain its confidentiality. The Administrator shall not disclose such confidential information to any member other than the submitter, or to any officers, agents, or employees of any member other than the submitter, and shall not disclose such confidential information to any other person except to another neutral third party as necessary to make the determination for which the information was submitted, to allocate TRQ quantities, or in connection with reports to the U.S. Department of Commerce as required by the Export Trade Certificate of Review or the arbitration of a dispute.

Cooperation With the U.S. and Mexican Governments

The CRA will provide whatever information and consultations may be necessary to facilitate cooperation between the U.S. Government and the Government of Mexico concerning the implementation and operation of the TRQ System. Furthermore, directly or through the U.S. Government, the CRA will endeavor to accommodate any information requests from the Government of Mexico (while protecting confidential information entrusted to the Administrator), and will consult with the Government of Mexico as appropriate.

Miscellaneous Implementing Provisions

The CRA and/or its members may (i) meet, discuss and provide for an administrative structure to implement the TRQ management system, assess its operations and provide modifications as necessary to improve its workability, (ii) meet, exchange, and discuss information regarding the structure and method for implementing the TRQ management system, (iii) meet, exchange and discuss the types of information needed concerning bilateral agreements between the U.S. and Mexican Governments, and any resulting legislation or regulations, affecting the TRQ management system, and (iv) otherwise meet, exchange and discuss information as necessary to implement the activities described above and take the necessary action to implement the foregoing TRQ management system.

Dated: October 10, 2002.
Jeffrey C. Anspacher,
Director, Office of Export Trading Company Affairs.

[FR Doc. 02-26321 Filed 10-15-02; 8:45 am]

BILLING CODE 3510-DR-P